DEPARTMENT OF THE INTERIOR

National Park Service

Notice of Inventory Completion for Native American Human Remains and Associated Funerary Objects in the Possession of the Office of the State Archaeologist, University of Iowa, Iowa City, IA

AGENCY: National Park Service, Interior.

ACTION: Notice.

Notice is hereby given in accordance with provisions of the Native American Graves Protection and Repatriation Act (NAGPRA), 43 CFR 10.9, of the completion of an inventory of human remains and associated funerary objects in the possession of the Office of the State Archaeologist, University of Iowa, Iowa City, IA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the Office of the State Archaeologist, University of Iowa, professional staff in consultation with the California Native American Heritage Commission and representatives of the Santa Rosa Indian Community of the Santa Rosa Rancheria, California; the Table Mountain Rancheria of California; the Tule River Indian Tribe of the Tule River Reservation, California; the Big Sandy Rancheria of Mono Indians of California; the Cold Springs Rancheria of Mono Indians of California; the Northfork Rancheria of Mono Indians of California; the Ione Band of Miwok Indians of California; the Chicken Ranch Rancheria of Me-Wuk Indians of California; the Jackson Rancheria of Me-Wuk Indians of California; the Shingle Springs Band of Miwok Indians, Shingle Springs Rancheria (Verona Tract), California; and the Tuolumne Band of Me-Wuk Indians of the Tuolumne Rancheria of California.

At an unknown date, human remains representing four individuals were removed from unknown locations in the San Joaquin Valley, CA, by John Morrie, of Fort Madison, IA. In 1994, the Morrie family transferred these human remains to the Office of the State Archaeologist Burials Program. No known individuals were identified. No associated funerary objects are present.

Morphological evidence indicates that these individuals are Native American based on dental wear and cranial features. The limited accession information indicates that these human remains were collected within the San Joaquin Valley, CA, and are identified as late precontact to early historic Yokuts Indians. Yokuts-speaking peoples occupied the entire San Joaquin Valley at the time of European contact, and had been living in the valley for a long time. Archeological, linguistic, ethnographic, and oral historical evidence suggests that the Yokuts and their ancestors inhabited the region since 500 B.C.

Based on the above-mentioned information, officials of Office of the State Archaeologist, University of Iowa, have determined that, pursuant to 43 CFR 10.2 (d)(1), the human remains listed above represent the physical remains of four individuals of Native American ancestry. Also, officials of the Office of the State Archaeologist, University of Iowa, have determined that, pursuant to 43 CFR 10.2 (e), there is a relationship of shared group identity that can be reasonably traced between these Native American human remains and the Santa Rosa Indian Community of the Santa Rosa Rancheria, California; the Table Mountain Rancheria of California; the Tule River Indian Tribe of the Tule River Reservation, California; the Big Sandy Rancheria of Mono Indians of California; the Cold Springs Rancheria of Mono Indians of California; the Northfork Rancheria of Mono Indians of California; the Ione Band of Miwok Indians of California; the Chicken Ranch Rancheria of Me-Wuk Indians of California; the Jackson Rancheria of Me-Wuk Indians of California; the Shingle Springs Band of Miwok Indians, Shingle Springs Rancheria (Verona Tract), California; and the Tuolumne Band of Me-Wuk Indians of the Tuolumne Rancheria of California.

This notice has been sent to officials of the California Native American Heritage Commission; the Santa Rosa Indian Community of the Santa Rosa Rancheria, California; the Table Mountain Rancheria of California; the Tule River Indian Tribe of the Tule River Reservation, California; the Big Sandy Rancheria of Mono Indians of California; the Cold Springs Rancheria of Mono Indians of California; the Northfork Rancheria of Mono Indians of California; the Ione Band of Miwok Indians of California; the Chicken Ranch Rancheria of Me-Wuk Indians of California; the Jackson Rancheria of Me-Wuk Indians of California; the Shingle Springs Band of Miwok Indians, Shingle Springs Rancheria (Verona Tract), California; and the Tuolumne Band of Me-Wuk Indians of the Tuolumne Rancheria of California. Representatives of any other Indian tribe that believes itself to be culturally affiliated with these human remains should contact Shirley Schermer, Burials Program Director, Office of the State Archaeologist, 700 Clinton Street Building, University of Iowa, Iowa City, IA 52242, telephone (319) 384-0740, before January 26, 2001. Repatriation of the human remains to the Santa Rosa Indian Community of the Santa Rosa Rancheria, California; the Table Mountain Rancheria of California; the Tule River Indian Tribe of the Tule River Reservation, California; the Big Sandy Rancheria of Mono Indians of California; the Cold Springs Rancheria of Mono Indians of California; the Northfork Rancheria of Mono Indians of California; the Ione Band of Miwok Indians of California; the Chicken Ranch Rancheria of Me-Wuk Indians of California; the Jackson Rancheria of Me-Wuk Indians of California; the Shingle Springs Band of Miwok Indians, Shingle Springs Rancheria (Verona Tract), California; and the Tuolumne Band of Me-Wuk Indians of the Tuolumne Rancheria of California, may begin after that date if no additional claimants come forward.

Dated: November 20, 2000.
John Robbins,
Assistant Director, Cultural Resources Stewardship and Partnerships.

[FR Doc. 00-32917 Filed 12-26-00; 8:45 am]

BILLING CODE 4310-70-F